DEPARTMENT OF HOMELAND SECURITY

Federal Emergency Management Agency

44 CFR Part 67

[Docket ID FEMA-2011-0002; Internal Agency Docket No. FEMA-B-1175]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before May 17, 2011.

ADDRESSES: The corresponding preliminary Flood Insurance Rate Map (FIRM) for the proposed BFEs for each community is available for inspection at the community's map repository. The respective addresses are listed in the table below.

You may submit comments, identified by Docket No. FEMA-B-1175, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Yolo County, California
California | Unincorporated Areas of Yolo County | Cache Creek Settling Basin | At the upstream side of the Cache Creek Settling Basin Levee | None | +40
|  |  | Approximately 1.4 miles downstream of County Road 94B | +95 | 94
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Yolo County
Maps are available for inspection at the Yolo County Department of Planning and Public Works, 292 West Beamer Street, Woodland, CA 95695.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
LaGrange County, Indiana, and Incorporated Areas
Basin Lake | Entire shoreline | None | +902 | Unincorporated Areas of LaGrange County.
Big Long Lake | Entire shoreline | None | +957 | Unincorporated Areas of LaGrange County.
Big Turkey Lake | Entire shoreline within community | None | +932 | Unincorporated Areas of LaGrange County.
Cedar Lake | Entire shoreline | None | +974 | Unincorporated Areas of LaGrange County.
Dallas Lake | Entire shoreline | None | +901 | Unincorporated Areas of LaGrange County.
Fish Lake | Entire shoreline | None | +940 | Unincorporated Areas of LaGrange County.
Goose Pond | Entire shoreline | None | +953 | Unincorporated Areas of LaGrange County.
Hackenburg Lake | Entire shoreline | None | +901 | Unincorporated Areas of LaGrange County.
Lake of the Woods | Entire shoreline within community | None | +953 | Unincorporated Areas of LaGrange County.
Little Turkey Lake | Entire shoreline | None | +930 | Unincorporated Areas of LaGrange County.
Martin Lake | Entire shoreline | None | +902 | Unincorporated Areas of LaGrange County.
McClish Lake | Entire shoreline within community | None | +953 | Unincorporated Areas of LaGrange County.
Messick Lake | Entire shoreline | None | +901 | Unincorporated Areas of LaGrange County.
North Twin Lake | Entire shoreline | None | +846 | Unincorporated Areas of LaGrange County.
Olin Lake | Entire shoreline | None | +902 | Unincorporated Areas of LaGrange County.
Oliver Lake | Entire shoreline | None | +902 | Unincorporated Areas of LaGrange County.
Pigeon Lake | Entire shoreline | None | +848 | Unincorporated Areas of LaGrange County.
Pretty Lake | Entire shoreline | None | +967 | Unincorporated Areas of LaGrange County.
Royer Lake | Entire shoreline | None | +940 | Unincorporated Areas of LaGrange County.
Smith Hole | Entire shoreline | None | +902 | Unincorporated Areas of LaGrange County.
South Twin Lake | Entire shoreline | None | +846 | Unincorporated Areas of LaGrange County.
Spectacle Lakes | Entire shoreline | None | +953 | Unincorporated Areas of LaGrange County.
Westler Lake | Entire shoreline | None | +901 | Unincorporated Areas of LaGrange County.
Witmer Lake | Entire shoreline | None | +901 | Town of Wolcottville, Unincorporated Areas of LaGrange County.
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Wolcottville
Maps are available for inspection at the Town Hall, 104 Race Street, Wolcottville, IN 46795.
Unincorporated Areas of LaGrange County
Maps are available for inspection at the LaGrange County Annex Building, 114 West Michigan Street, LaGrange, IN 46761.
Chariton County, Missouri, and Incorporated Areas
Batts Creek (backwater effects from Missouri River) | From the Doxies Creek confluence to approximately 550 feet upstream of Batts Creek Road | +633 | +631 | Unincorporated Areas of Chariton County.
Brush Creek (backwater effects from Missouri River) | From the Salt Creek confluence to approximately 675 feet downstream of Utz Road | +650 | +648 | Unincorporated Areas of Chariton County.
Chariton River (backwater effects from Missouri River) | From approximately 1.3 miles upstream of State Highway VV to approximately 225 feet downstream of U.S. Route 24 | +641 | +637 | Unincorporated Areas of Chariton County.
Doxies Creek (backwater effects from Missouri River) | From approximately 300 feet downstream of Doxie Avenue to the Howard County boundary | +633 | +631 | Unincorporated Areas of Chariton County.
Grand River (backwater effects from Missouri River) | At the Missouri River confluence | +646 | +645 | City of Brunswick, Unincorporated Areas of Chariton County.
| At the downstream side of ATSF Railroad Bridge | +649 | +651
Grand River Tributary (backwater effects from Missouri River) | From approximately 1,450 feet downstream of Grand River Road to approximately 150 feet upstream of Grand River Road | +651 | +649 | Unincorporated Areas of Chariton County.
Little Chariton River (backwater effects from Missouri River) | From approximately 0.65 mile downstream of French Road to the downstream side of Chapel Hill Road | +634 | +632 | Unincorporated Areas of Chariton County.
Missouri River | At the Howard County boundary | +628 | +626 | City of Brunswick, Unincorporated Areas of Chariton County, Village of Dalton.
| At the Carroll County boundary | +646 | +645
Mussel Fork (backwater effects from Missouri River) | From the Chariton River confluence to approximately 375 feet downstream of Jackson Street | +641 | +637 | City of Keytesville, Unincorporated Areas of Chariton County.
Palmer Creek (backwater effects from Missouri River) | From the Lake Creek confluence to approximately 1,375 feet upstream of Lewis Clark Road | +645 | +644 | Unincorporated Areas of Chariton County.
Puzzle Creek (backwater effects from Missouri River) | From the Chariton River confluence to the upstream side of State Highway KK | +641 | +637 | Unincorporated Areas of Chariton County.
Salt Creek (backwater effects from Missouri River) | From approximately 1.0 mile downstream of Ohio Road to approximately 825 feet downstream of State Highway M | +650 | +649 | Unincorporated Areas of Chariton County.
Young Creek (backwater effects from Missouri River) | From approximately 1,950 feet downstream of Rockford Hills Avenue to approximately 1,550 feet upstream of Rockford Hills Avenue | +639 | +636 | Unincorporated Areas of Chariton County.
Young Creek Tributary 7 (backwater effects from Missouri River) | From the Young Creek confluence to approximately 1,250 feet upstream of Asbury Road | None | +636 | Unincorporated Areas of Chariton County.
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Brunswick
Maps are available for inspection at City Hall, 115 West Broadway Street, Brunswick, MO 65236.
City of Keytesville
Maps are available for inspection at City Hall, 404 West Bridge Street, Keytesville, MO 65261.
Unincorporated Areas of Chariton County
Maps are available for inspection at the Chariton County Courthouse, 306 South Cherry Street, Keytesville, MO 65261.
Village of Dalton
Maps are available for inspection at City Hall, 109 North Sycamore Street, Dalton, MO 65246.
Taney County, Missouri, and Incorporated Areas
Beaver Creek (backwater effects from White River) | From the White River confluence to approximately 685 feet upstream of the White River confluence | +692 | +698 | Unincorporated Areas of Taney County.
Bee Creek (backwater effects from White River) | From the White River confluence to approximately 1,700 feet upstream of the White River confluence | None | +698 | Unincorporated Areas of Taney County.
Bull Creek (backwater effects from White River) | From the White River confluence to approximately 0.5 mile upstream of the White River confluence | None | +716 | Town of Rockaway Beach, Unincorporated Areas of Taney County.
Bull Shoals Lake | Entire shoreline | None | +724 | Unincorporated Areas of Taney County.
Cooper Creek (backwater effects from White River) | From the White River confluence to approximately 685 feet upstream of the White River confluence | None | +724 | City of Branson, Unincorporated Areas of Taney County.
Silver Creek (backwater effects from White River) | From the White River confluence to approximately 0.8 mile upstream of the White River confluence | +695 | +698 | Unincorporated Areas of Taney County.
Swan Creek (backwater effects from White River) | From the White River confluence to approximately 1,290 feet upstream of Strawberry Road | +694 | +698 | City of Forsyth, Unincorporated Areas of Taney County.
White River | At the downstream side of Powersite Dam | +695 | +698 | City of Forsyth, Unincorporated Areas of Taney County.
| At the White County, Arkansas boundary | None | +698
White River Tributary 16 (backwater effects from White River) | From the White River confluence to approximately 1.5 miles upstream of the White River confluence | +692 | +698 | Unincorporated Areas of Taney County.
White River Tributary 24 (backwater effects from White River) | From the White River confluence to approximately 430 feet downstream of Frisco Hills Road | +693 | +698 | Unincorporated Areas of Taney County.
White River Tributary 30 (backwater effects from White River) | From the White River confluence to approximately 0.5 mile upstream of the White River confluence | +693 | +698 | City of Forsyth, Unincorporated Areas of Taney County.
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Branson
Maps are available for inspection at City Hall, 110 West Maddux Street, Suite 210, Branson, MO 65616.
City of Forsyth
Maps are available for inspection at City Hall, 15405 U.S. Highway 160, Forsyth, MO 65653.
Town of Rockaway Beach
Maps are available for inspection at Town Hall, 2764 State Highway 176, Rockaway Beach, MO 65740.
Unincorporated Areas of Taney County
Maps are available for inspection at the Taney County Courthouse, 132 David Street, Forsyth, MO 65653.
Montgomery County, Pennsylvania all Jurisdictions
Blair Mill Run | At the Pennypack Creek confluence | +212 | +211 | Borough of Hatboro, Township of Horsham, Township of Upper Moreland.
| At the downstream side of County Line Road | +259 | +261
Blair Mill Run Tributary | At the upstream side of West Monument Avenue | +227 | +228 | Borough of Hatboro.
| At the downstream side of East County Line Road | +247 | +252
Huntingdon Valley Creek | Approximately 800 feet downstream of Red Lion Road | +119 | +120 | Borough of Bryn Athyn, Township of Lower Moreland.
| Approximately 0.9 mile upstream of Byberry Road | +264 | +267
Meadow Brook | At the Pennypack Creek confluence | +115 | +118 | Township of Abington, Township of Lower Moreland.
| Approximately 1,000 feet upstream of the most upstream State Highway 2017 crossing | None | +287
Pennypack Creek | Approximately 1,200 feet downstream of Moredon Road | +99 | +100 | Borough of Bryn Athyn, Borough of Hatboro, Township of Abington, Township of Horsham, Township of Lower Moreland, Township of Upper Dublin, Township of Upper Moreland.
| Approximately 1.0 mile upstream of Mann Road | None | +359
Pennypack Creek Branch | Approximately 400 feet downstream of Witmer Road | +299 | +298 | Township of Horsham.
| Approximately 0.7 mile upstream of Witmer Road | None | +362
Pennypack Creek Tributary No. 1 | At the Pennypack Creek confluence | +198 | +204 | Borough of Hatboro, Township of Horsham, Township of Upper Moreland.
| Approximately 0.7 mile upstream of Dresher Road | None | +341
Pine Run | At the upstream side of State Highway 309 | +171 | +176 | Township of Upper Dublin.
| Approximately 800 feet upstream of Dreshertown Road | +231 | +239
Rapp Run | At the Pine Run confluence | +177 | +183 | Township of Upper Dublin.
| Approximately 0.5 mile upstream of the most upstream Lexington Drive crossing | +351 | +355
Sandy Run | Approximately 300 feet downstream of Bethlehem Pike | None | +160 | Township of Abington, Township of Springfield, Township of Upper Dublin, Township of Whitemarsh.
| Approximately 1,400 feet upstream of Roberta Avenue | None | +339
Sandy Run Tributary No. 1 | Approximately 150 feet upstream of Johnston Avenue | +237 | +238 | Township of Abington.
| Approximately 2,000 feet upstream of Johnston Avenue | None | +258
Sandy Run Tributary No. 1a (downstream) | Approximately 250 feet upstream of Fernwood Avenue | +238 | +239 | Township of Abington.
| Approximately 1,100 feet upstream of Fernwood Avenue | None | +244
Sandy Run Tributary No. 1a (upstream) | Approximately 600 feet downstream of Miriam Avenue | None | +277 | Township of Abington.
| Approximately 550 feet upstream of Miriam Avenue | None | +296
Southampton Creek | At the Pennypack Creek confluence | +176 | +177 | Borough of Bryn Athyn, Township of Lower Moreland, Township of Upper Moreland.
| At the downstream side of County Line Road | +184 | +187
Tributary No. 2 to Pine Run | At the Pine Run confluence | None | +202 | Township of Upper Dublin.
| Approximately 1.1 miles upstream of the Pine Run confluence | None | +232
War Memorial Creek | At the Pennypack Creek confluence | +189 | +190 | Township of Upper Moreland.
| Approximately 700 feet upstream of Mineral Avenue | +265 | +267
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Borough of Bryn Athyn
Maps are available for inspection at the Borough Building, 2835 Buck Road, Bryn Athyn, PA 19009.
Borough of Hatboro
Maps are available for inspection at the Borough Hall, 414 South York Road, Hatboro, PA 19040.
Township of Abington
Maps are available for inspection at the Township Building, Engineer's Office, 1176 Old York Road, Abington, PA 19001.
Township of Horsham
Maps are available for inspection at the Township Municipal Building, 1025 Horsham Road, Horsham, PA 19044.
Township of Lower Moreland
Maps are available for inspection at the Lower Moreland Township Municipal Building, 640 Red Lion Road, Huntingdon Valley, PA 19006.
Township of Springfield
Maps are available for inspection at the Springfield Township Administration Building, 1510 Paper Mill Road, Wyndmoor, PA 19038.
Township of Upper Dublin
Maps are available for inspection at the Upper Dublin Township Building, 801 Loch Alsh Avenue, Fort Washington, PA 19034.
Township of Upper Moreland
Maps are available for inspection at the Upper Moreland Township Building, 117 Park Avenue, Willow Grove, PA 19090.
Township of Whitemarsh
Maps are available for inspection at the Whitemarsh Township Administrative Building, 616 Germantown Pike, Lafayette Hills, PA 19444.

(Catalog of Federal Domestic Assistance No. 97.022, “Flood Insurance.”)

Dated: February 1, 2011.
Edward L. Connor,
Acting Federal Insurance and Mitigation Administrator, Department of Homeland Security, Federal Emergency Management Agency.

[FR Doc. 2011-3420 Filed 2-15-11; 8:45 am]

BILLING CODE 9110-12-P